DEPARTMENT OF THE INTERIOR

Fish and Wildlife Service

[FWS-HQ-WSFR-2018-N043; FF09W25000-178-FXGO166409WSFR0; OMB Control Number 1018-0100]

Agency Information Collection Activities; Submission to the Office of Management and Budget for Review and Approval; Administrative Procedures for U.S. Fish and Wildlife Service Financial Assistance Programs

AGENCY: Fish and Wildlife Service, Interior.

ACTION: Notice of information collection; request for comment.

SUMMARY: In accordance with the Paperwork Reduction Act of 1995, we, the U.S. Fish and Wildlife Service, are proposing to renew an information collection with revisions.

DATES: Interested persons are invited to submit comments on or before May 4, 2018.

ADDRESSES: Send written comments on this information collection request (ICR) to the Office of Management and Budget's Desk Officer for the Department of the Interior by email at OIRA_Submission@omb.eop.gov; or via facsimile to (202) 395-5806. Please provide a copy of your comments to the Service Information Collection Clearance Officer, U.S. Fish and Wildlife Service, MS: BPHC, 5275 Leesburg Pike, Falls Church, VA 22041-3803 (mail); or by email to Info_Coll@fws.gov. Please reference OMB Control Number 1018-0100 in the subject line of your comments.

FOR FURTHER INFORMATION CONTACT: To request additional information about this ICR, contact Madonna L. Baucum, Service Information Collection Clearance Officer, by email at Info_Coll@fws.gov, or by telephone at (703) 358-2503. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We published a Federal Register notice with a 60-day public comment period soliciting comments on this collection of information on October 10, 2017 (82 FR 47018). No comments were received in response to that notice.

We are again soliciting comments on the proposed ICR that is described below. We are especially interested in public comment addressing the following issues: (1) Is the collection necessary to the proper functions of the Service; (2) will this information be processed and used in a timely manner; (3) is the estimate of burden accurate; (4) how might the Service enhance the quality, utility, and clarity of the information to be collected; and (5) how might the Service minimize the burden of this collection on the respondents, including through the use of information technology.

Comments that you submit in response to this notice are a matter of public record. Before including your address, phone number, email address, or other personal identifying information in your comment, you should be aware that your that your entire comment—including your personal identifying information—may be publicly available at any time. While you can ask us in your comment to withhold your personal identifying information from public review, we cannot guarantee that we will be able to do so.

Abstract: Information collection requirements associated with the administrative processes used to administer Service financial assistance programs are currently approved under four different OMB control numbers:

• 1018-0100, “Migratory Birds and Wetlands Conservation Grant Programs, 50 CFR 17 and 23”;

• 1018-0109, “Wildlife and Sport Fish Restoration Grants and Cooperative Agreements, 50 CFR 80, 81, 84, 85, and 86”;

• 1018-0123, “International Conservation Grant Programs”; and

• 1018-0154, “Wolf-Livestock Demonstration Project Grant Program.”

In this revision, we are consolidating all of the information collection requirements associated with the four OMB Control Numbers identified above into one control number, OMB Control No. 1018-0100, with a new title to more accurately reflect the purpose of the consolidated collection of information. Consolidation of OMB approvals into a single collection reduces burden on the public by ensuring consistency in the application and award administration processes across all Service financial assistance programs. If OMB approves this request, we will discontinue OMB Control Numbers 1018-0109, 1018-0123, and 1018-0154.

We issue financial assistance through grants and cooperative agreement awards to individuals; commercial organizations; institutions of higher education; non-profit organizations; foreign entities; and State, local, and Tribal governments. The Service administers a wide variety of financial assistance programs, authorized by Congress to address the Service's mission, as listed in the Catalog of Federal Domestic Assistance (CFDA). The CFDA is a government-wide compendium of Federal programs, projects, services, and activities that provide assistance or benefits to the American public. It contains financial and non-financial assistance programs administered by departments and establishments of the Federal government. The CFDA listing includes program types and numbers, the specific type of assistance for each program, and includes the applicable authorities for each program within the description. A list of currently authorized Service financial assistance programs can be found at https://www.cfda.gov/?s=agency&mode=form&tab=program&id=000710afb4d72c15f9fc20a83f7319d0. The Service currently manages the following types of assistance as categorized by the CFDA:

• Formula Grants

• Project Grants

• Project Grants (Discretionary)

• Cooperative Agreements (Discretionary Grants)

• Direct Payments with Unrestricted Use

• Use of Property, Facilities, and Equipment

• Provision of Specialized Services

• Advisory Services and Counseling

• Dissemination of Technical Information

• Training

Some assistance programs are mandatory and funds are awarded to eligible recipients according to a formula set by law or policy. Other programs are discretionary and award funds based on competitive selection and merit review processes. Mandatory grant recipients must give us specific, detailed project information during the application process so that we may ensure that projects are eligible for the mandatory funding, are substantial in character and design, and comply with all applicable Federal laws. Discretionary grant applicants must give us information as dictated by the program requirements and as requested in the notice of funding opportunity (NOFO), including that information that addresses ranking criteria. All recipients must submit financial and performance reports that contain information necessary for us to track costs and accomplishments. The recipients' reports must adhere to schedules and rules in 2 CFR part 200, Uniform Administrative Requirements, Cost Principles, and Audit Requirements for Federal Awards, which was effective as of December 26, 2014. Part 200 prescribes the information that Federal agencies must collect, and financial assistance recipients must provide, and also supports this information collection.

The Service uses the grant process to provide technical and financial assistance to other Federal agencies, States, local governments, Native American tribes, non-governmental organizations, citizen groups, and private landowners, for the conservation and management of fish and wildlife resources. The process begins with the submission of an application. The respective program reviews and prioritizes proposed projects based on their respective project selection criteria. Pending availability of funding, applicants can submit their application documents to the Service through the Federal Grants.gov website, when solicited by the Service through a NOFO.

As part of this collection of information, the Service collects the following types of information requiring approval under the PRA:

A. Application Package: We use the information provided in applications to: (1) Determine eligibility under the authorizing legislation and applicable program regulations; (2) determine allowability of major cost items under the Cost Principles at 2 CFR 200; (3) select those projects that will provide the highest return on the Federal investment; and (4) assist in compliance with laws, as applicable, such as the National Environmental Policy Act, the National Historic Preservation Act, and the Uniform Relocation Assistance and Real Property Acquisition Policies Act of 1970. The full application package (submitted by the applicant) generally include the following:

• Required Federal financial assistance application forms (SF-424 suite of forms, as applicable to specified project).

• Project Narrative—generally includes items such as:

○ Statement of need,

○ Project goals and objectives,

○ Methods used and timetable,

○ Description of key personnel qualifications,

○ Description of stakeholders or other relevant organizations/individuals involved and level of involvement,

○ Project monitoring and evaluation plan, and/or

○ Other pertinent project specific information.

• Pertinent project budget-related information—generally includes items such as:

○ Budget justification,

○ Indirect cost statement,

○ Federally-funded equipment list, and/or

○ Certifications and disclosures.

B. Amendments: Most awardees must explain and justify requests for amendments to terms of the grant. The information is used to determine the eligibility and allowability of activities and to comply with the requirements of 2 CFR 200.

C. Reporting Requirements: Reporting requirements associated with financial assistance awards generally include the following types of reports:

• Financial reports,

• Quarterly and Annual Performance reports, and

• Property Reports.

D. Recordkeeping Requirements: In accordance with 2 CFR 200.333, financial records, supporting documents, statistical records, and all other non-Federal entity records pertinent to a Federal award must be retained for a period of 3 years after the date of submission of the final expenditure report or, for Federal awards that are renewed quarterly or annually, from the date of the submission of the quarterly or annual financial report, respectively, as reported to the Federal awarding agency or pass-through entity (in the case of a subrecipient) (unless an exemption as described in 200.333 applies that requires retention of records longer than 3 years).

Title of Collection: Administrative Procedures for U.S. Fish and Wildlife Service Financial Assistance Programs.

OMB Control Number: 1018-0100.

Form Number: None.

Type of Review: Revision of a currently approved collection.

Respondents/Affected Public: Individuals; commercial organizations; institutions of higher education; non-profit organizations; foreign entities; and State, local, and Tribal governments.

Total Estimated Number of Annual Respondents: 12,152.

Total Estimated Number of Annual Responses: 16,628.

Estimated Completion Time per Response: Varies from 3 hours to 203 hours, depending on the activity.

Total Estimated Number of Annual Burden Hours: 263,862.

Respondent's Obligation: Required to Obtain or Retain a Benefit.

Frequency of Collection: On occasion.

Total Estimated Annual Nonhour Burden Cost: None.

An agency may not conduct or sponsor and a person is not required to respond to a collection of information unless it displays a currently valid OMB control number.

The authority for this action is the Paperwork Reduction Act of 1995 (44 U.S.C. 3501 et seq.).

Dated: March 30, 2018.
Madonna L. Baucum,
Information Collection Clearance Officer, U.S. Fish and Wildlife Service.

[FR Doc. 2018-06810 Filed 4-3-18; 8:45 am]

BILLING CODE 4333-15-P